DEPARTMENT OF HEALTH AND HUMAN SERVICES

Administration for Children and Families

Office of Community Services; Notice of Meeting

AGENCY: Administration for Children and Families, Department of Health and Human Services.

ACTION: Notice of Tribal Consultation.

SUMMARY: The Department of Health and Human Services, Administration for Children and Families, Office of Community Services (OCS) will host a virtual Tribal Consultation to consult on the Assets for Independence (AFI) program proposed Performance Progress Report (PPR).

DATES: July 6, 2015.

ADDRESSES: Consultation will be via webinar/teleconference.

FOR FURTHER INFORMATION CONTACT: Gretchen Lehman, Program Manager, Assets for Independence, Office of Community Services, email Gretchen.Lehman@acf.hhs.gov or phone (202) 401-6614. To register for the consultation, go to https://www.surveymonkey.com/s/GLXK9W6. If you do not have access to the internet, you can register to participate in the consultation by phone by calling (866) 778-6037. If you are not able to participate in this consultation, but want to submit testimony on this issue, please mail it to the following address no later than July 10, 2015: Jeannie L. Chaffin, Office of Community Services, 370 L'Enfant Promenade SW., Washington, DC 20447.

SUPPLEMENTARY INFORMATION: AFI is a competitive, discretionary grant program that enables eligible organizations to implement and demonstrate an assets-based approach for supporting low-income individuals and their families. Tribal governments that apply jointly with 501(c)(3) non-profit organizations are eligible for AFI grants. For more information on the AFI program, go to http://www.acf.hhs.gov/programs/ocs/resource/assets-for-independence-program-summary.

OCS is proposing to create an AFI program specific PPR to replace two current AFI reports: The Semiannual Standard Form Performance Progress Report (SF-PPR) and the annual data report. The AFI PPR would collect data on project activities and attributes similar to the reports that it is replacing. OCS plans to use the data collected in the AFI PPR to prepare the annual AFI Report to Congress, to evaluate and monitor the performance of the AFI program overall and of individual projects, and to inform and support technical assistance efforts. The AFI Act (Title IV of the Community Opportunities, Accountability, and Training and Educational Services Act of 1998, Public Law 105-285, [42 U.S.C. 604 note]) requires that organizations operating AFI projects submit annual progress reports, and the AFI PPR would fulfill this requirement.

OCS has proposed that the AFI PPR would be submitted quarterly: Three times per year using an abbreviated short form and one time using a long form. Both draft data collection instruments are available for review at http://idaresources.acf.hhs.gov/AFIPPR, along with additional details about this proposal.

Dated: June 8, 2015.
Jeannie L. Chaffin,
Director, Office of Community Services.

[FR Doc. 2015-14312 Filed 6-10-15; 8:45 am]

BILLING CODE 4184-26-P